DEPARTMENT OF THE INTERIOR

Geological Survey

Publication of Award Announcement for Cooperative Agreement With the Student Conservation Association, Inc., for Recruitment and Placement of College-Age and Other Qualified Volunteers to Headquarters, Centers, and Field Stations of the U.S. Geological Survey (USGS)

AGENCY: Department of the Interior, Geological Survey.

ACTION: Notice.

SUMMARY: The USGS announces the availability of fiscal year (FY) 2002 funds for a cooperative agreement to provide recruitment and placement of college-age and other qualified volunteers to accomplish resource management tasks in the areas of biology, water, soil, air, waste, mineral, marine, environmental education, mapping, and geology to centers and field stations of the USGS. The purpose of this program is to provide opportunities to college-age students and other qualified volunteers to obtain experience in support of resource management and research tasks for limited periods on USGS projects. Assistance will be provided only to the Student Conservation Association, Inc. No other applications are solicited. Eligibility is limited to the Student Conservation Association, Inc., because no other known organization recruits and places volunteers with Federal earth science agencies and organizations.

Other qualified organizations that provide recruitment and placement of college-age students and other qualified volunteers are invited to provide an affirmative response to this notice. Response should consist of an organization chart, a brief history, and description of similar volunteer placement activities, including locations and contact information, numbers of volunteers placed, activities, and projects undertaken. Responses must be in writing but may be submitted via e-mail within 2 weeks of publication of this notice to the Business Technical Contact listed below.

No funds will be awarded under this agreement. Funding will be awarded through cooperative project awards based upon requests from headquarters, science centers and field stations for the placement of qualified volunteers. The USGS anticipates awarding this 60-month cooperative agreement on or about May 14, 2002.

ADDRESSES: 1. For program technical assistance contact Nancy Milton, U.S. Geological Survey, Program Review Coordinator, Biological Resources Discipline, MS 301, 12201 Sunrise Valley Drive, Reston, Virginia 20192, telephone: 703-648-4196, e-mail: nancy_m_milton@usgs.gov.

2. For business technical assistance contact Patricia L. Masterson, U.S. Geological Survey, Office of Acquisition and Grants, National Assistance Programs Branch, MS 205G, 12201 Sunrise Valley Drive, Reston, Virginia 20192, telephone: 703-648-7356, e-mail pmasters@usgs.gov.

SUPPLEMENTARY INFORMATION: Authority for this program is found at 43 USC 36c, and 43 USC 50c. The Office of Management and Budget Catalog of Federal Domestic Assistance Number is 15.808.

Dated: April 1, 2002.
Carol F. Aten,
Chief, Office of Administrative Policy and Services.

[FR Doc. 02-10568 Filed 4-29-02; 8:45 am]

BILLING CODE 4310-Y7-M